DEPARTMENT OF THE INTERIOR

Bureau of Land Management

[LLCAD01500, L51010000.ER0000, 13XL5017AP, LVRWB13B5330; CACA 053958]

Notice of Availability of the Draft Environmental Impact Statement for the Tylerhorse Wind Project and Draft Plan Amendment, Kern County, CA

AGENCY: Bureau of Land Management, Interior.

ACTION: Notice of availability.

SUMMARY: Pursuant to the National Environmental Policy Act of 1969, as amended, and the Federal Land Policy and Management Act of 1976, as amended, the Bureau of Land Management (BLM) has prepared a Draft Environmental Impact Statement (EIS) for the Tylerhorse Wind Project (TWP) and a Draft Plan Amendment to the California Desert Conservation Area (CDCA) Plan 1980, as amended, and by this notice is announcing the opening of the comment period.

DATES: To ensure that comments will be considered, the BLM must receive written comments on the Draft EIS/plan amendment within 90 days following the date the U.S. Environmental Protection Agency publishes its Notice of Availability in the Federal Register. The BLM will announce future meetings or hearings and any other public involvement activities at least 15 days in advance through public notices, media releases, and/or mailings.

ADDRESSES: You may submit comments related to the TWP Draft EIS/plan amendment by any of the following methods:

• Web site: http://www.blm.gov/ca/st/en/fo/ridgecrest/tylerhorse_wind_project.html.

• Email: blm_ca_tylerhorse_wind_project@blm.gov.

• Mail: Cedric Perry, BLM Project Manager, BLM California Desert District Office, 22835 Calle San Juan De Los Lagos, Moreno Valley, CA 92553.

Copies of the TWP Draft EIS/plan amendment are available in the California Desert District Office at the above address.

FOR FURTHER INFORMATION CONTACT: Cedric Perry, BLM Project Manager; telephone 951-697-5388; address BLM California Desert District Office, 22835 Calle San Juan de Los Lagos, Moreno Valley, CA 92553; email blm_ca_tylerhorse_wind_project@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Heartland Wind, LLC, has submitted a right-of-way (ROW) application to the BLM requesting authorization to construct, operate, maintain, and decommission the TWP on 1,200 acres of BLM-managed lands to produce up to 60 megawatts of electricity from wind energy. The proposed project would be located in Kern County, California, approximately 15 miles west of Highway 14, 12 miles south of Highway 58, and 8 miles north of State Route 138.

The proposed project would include up to 40 wind turbine generators, access roads, a 34.5-kilovolt underground energy collection system, supervisory control and data acquisition system, fiber optic communications, and fencing. The TWP would share an existing operations and maintenance building with the adjacent Manzana Wind Energy Project. A portion of the project may also connect to the Whirlwind substation through the adjacent, approved Pacific Wind Energy Project. If approved, construction of the TWP is expected to last 4 months. However, construction could be delayed by weather or other unforeseen circumstances. Therefore, a 2-year pre-operating period has been requested by the Heartland Wind, LLC to allow adequate time for construction.

The Draft EIS/plan amendment analyzes the Proposed Action (40 turbines) and a smaller, Modified Proposed Action alternative (30 turbines). It also analyzes a no action alternative and two no project alternatives that would not approve the project, but would amend the CDCA Plan identifying the area as either suitable or unsuitable for wind energy projects. The CDCA Plan (1980, as amended), while recognizing the potential compatibility of renewable energy generation facilities with other uses on public lands, requires that all sites proposed for power generation or transmission not already identified in the plan be considered through the plan amendment process.

The Draft EIS/plan amendment analyzes the direct, indirect, and cumulative impacts of the Proposed Action and alternatives on biological resources, cultural resources, water resources, geological resources and hazards, land use, noise, paleontological resources, public health, socioeconomics, soils, traffic and transportation, visual resources, wilderness characteristics, and other resources.

On July 15, 2011, the BLM published a Notice of Intent to prepare an EIS in the Federal Register (76 FR 41815). On August 31, 2011, a press release issued, notified the public that the scoping period had been extended to September 29, 2011, and on September 14, 2011, a scoping meeting was held.

Please note that public comments and information submitted including names, street addresses, and email addresses of persons who submit comments will be available for public review and disclosure at the above address during regular business hours (8 a.m. to 4 p.m.), Monday through Friday, except holidays. Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Cynthia Staszak,
Associate Deputy State Director.

[FR Doc. 2014-08767 Filed 4-17-14; 8:45 am]

BILLING CODE 4310-40-P